SOCIAL SECURITY ADMINISTRATION

[Docket No. SSA-2011-0096]

Employment Network (EN) Report Card

AGENCY: Social Security Administration.

ACTION: Notice of Webinar and National Teleconference Call Listening Sessions—Announcing Two Opportunities for SSA to Hear Public Comments on Draft Revised Ticket to Work Consumer Employment Network Report Card.

SUMMARY: We are soliciting the input of beneficiaries, recipients, advocates, employment networks (ENs), other professionals, and the general public on the draft revised EN Report Card. An EN is a private or public entity that participates in the Ticket to Work (TTW) program and provides employment services, vocational rehabilitation services, or other support services to Social Security Disability Insurance beneficiaries and Supplemental Security Income (SSI) recipients who are disabled. The EN Report Card is available at: EN Report Card Page. Disability beneficiaries and SSI recipients who want help with their work goals may use the EN Report Card to help them make informed choices about how to select ENs under the TTW program.

The EN Report Card contains performance information about ENs. This information comes from our records, EN records, and beneficiary and recipient's satisfaction ratings of their EN.

DATES: In December 2011, there will be two listening sessions—(1) On Friday, December 16, 2011, from 1 p.m. to 2:30 p.m. EST, we will invite ENs, advocates, and other interested TTW program partners to participate in a Webinar and (2) on Monday, December 19, 2011, from 3 p.m. to 4:30 p.m. EST, we will invite our beneficiaries, recipients, the public, and those who cannot make the first date to participate in a National Teleconference Call. Go to http://socialsecurity.gov/work/ beginning December 9, 2011, for information about how to register for the Webinar or participate in the National Teleconference Call.

FOR FURTHER INFORMATION CONTACT: Bashiru Kamara, Office of Employment Support Programs, Social Security Administration, 6401 Security Boulevard, Baltimore, MD 21235-6401, (410) 965-9128, for information about this notice. For information on eligibility or filing for benefits, call our national toll-free number, 1-(800) 772-1213 or TTY 1-(800) 325-0778, or visit our Internet site, Social Security Online, at http://www.socialsecurity.gov.

SUPPLEMENTARY INFORMATION: The purpose of the Webinar and National Teleconference Call is to provide a forum for us to obtain input on the draft revised EN Report Card. When we launched the report cards earlier this year, we committed to inviting ideas for improving the initial EN Report Card. We have already received some input from ENs, which we have taken into consideration in the proposed draft revision.

We invite participation in the Webinar and National Teleconference Call from people who have an interest in the rules we use to administer the TTW program, people who apply for or receive disability benefits or SSI payments, members of the public, advocates and organizations who represent parties interested in the TTW program, and others.

This is not a request for written comments and we will not respond to comments you send in response to this Notice. We will accept and consider oral comments through the Webinar and National Teleconference Call. We will then determine whether and how we should adjust the EN Report Card.

Michael J. Astrue,
Commissioner of Social Security.

[FR Doc. 2011-31325 Filed 12-6-11; 8:45 am]

BILLING CODE 4191-02-P